DEPARTMENT OF JUSTICE

Notice of Lodging of Proposed Consent Decree Under the Clean Air Act

On July 17, 2018, the Department of Justice lodged a proposed Consent Decree with the United States District Court for the Eastern District of Michigan in the lawsuit entitled United States v. Gerdau Specialty Steel, N.A., Michigan, Civil Action No. 18-12228.

The Complaint seeks civil penalties and injunctive relief for alleged violations of the Clean Air Act relating to excess opacity and emissions of particulate matter (“PM”); failure to follow good air pollution control practices in limiting PM emissions; violations of reporting and notification requirements; failure to conduct required performance testing for a number of pollutants; and violations of baghouse operation, monitoring, and inspection requirements. Under the proposed Consent Decree, Gerdau would be required to take a number of measures to control PM pollution and limit opacity. The proposed Consent Decree would require enclosure of a partially opened roof monitor at the south end of the Facility's main building, called the melt shop. Emissions that would otherwise be released into the atmosphere through the roof monitor would be captured by a new system that would route emissions to a new baghouse for pollution control. The proposed Consent Decree also contains interim measures to address PM emissions; operational requirements to limit emissions; and monitoring, recordkeeping, and reporting requirements. The proposed Consent Decree requires Gerdau to pay a $325,000 civil penalty.

The publication of this notice opens a period for public comment on the Consent Decree. Comments should be addressed to the Assistant Attorney General, Environment and Natural Resources Division, and should refer to United States v. Gerdau Specialty Steel, N.A., Michigan, D.J. Ref. No. 90-5-2-1-11453. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.40 (25 cents per page reproduction cost) payable to the United States Treasury.

Randall M. Stone,
Acting Assistant Section Chief, Environmental Enforcement Section, Environment and Natural Resources Division.

[FR Doc. 2018-15586 Filed 7-19-18; 8:45 am]

BILLING CODE P